DEPARTMENT OF COMMERCE

Foreign-Trade Zones Board

[B-42-2020]

Foreign-Trade Zone (FTZ) 219—San Luis, Arizona; Authorization of Production Activity; Barco Stamping Co., Inc. (Stamped Lighting Fixture Components), Yuma, Arizona

On June 24, 2020, the Greater Yuma Economic Development Corporation, grantee of FTZ 219, submitted a notification of proposed production activity to the FTZ Board on behalf of Barco Stamping Co., Inc. (Barco), within FTZ 219, in Yuma, Arizona.

The notification was processed in accordance with the regulations of the FTZ Board (15 CFR part 400), including notice in the Federal Register inviting public comment (85 FR 39880, July 2, 2020). On October 22, 2020, the applicant was notified of the FTZ Board's decision that no further review of the activity is warranted at this time. The production activity described in the notification was authorized, subject to the FTZ Act and the FTZ Board's regulations, including Section 400.14.

Dated: October 22, 2020.
Andrew McGilvray,
Executive Secretary.

[FR Doc. 2020-23744 Filed 10-26-20; 8:45 am]

BILLING CODE 3510-DS-P